DEPARTMENT OF THE INTERIOR

Fish and Wildlife Service

[FWS-R4-ES-2020-N041; FXES11130400000C2-201-FF04E00000]

Endangered and Threatened Wildlife and Plants; Draft Recovery Plan for White Fringeless Orchid

AGENCY: Fish and Wildlife Service, Interior.

ACTION: Notice of availability and request for public comment.

SUMMARY: We, the U.S. Fish and Wildlife Service, announce the availability for public review and comment of the draft recovery plan for the Platanthera integrilabia (white fringeless orchid), a plant listed as threatened under the Endangered Species Act. We request review and comment on the draft recovery plan from local, State, and Federal agencies, Tribes, nongovernmental organizations, and the public.

DATES: We must receive comments by August 16, 2021.

ADDRESSES: Obtaining documents: You may obtain or request a copy by any of the following methods:

• Internet: http://www.fws.gov/cookeville/;

• Telephone: Geoff Call, 931-525-4983; or

Submitting comments: If you wish to comment, you may submit your comments by the following method:

• Email: geoff_call@fws.gov. Please include “White Fringeless Orchid Draft Recovery Plan Comments” in the subject line.

For additional information about submitting comments, see Public Comments below.

FOR FURTHER INFORMATION CONTACT: Geoff Call, geoff_call@fws.gov, 931-525-4983. Individuals who are hearing or speech impaired may call the Federal Relay Service at 1-800-877-8339 for TTY assistance.

SUPPLEMENTARY INFORMATION: We, the U.S. Fish and Wildlife Service (Service), announce the availability for public review and comment of the draft recovery plan for the Platanthera integrilabia (white fringeless orchid), a plant listed as threatened under the Endangered Species Act (ESA; 16 U.S.C. 1531 et seq.). The draft recovery plan includes specific recovery objectives and criteria we have identified to better assist us in determining when the protections of the ESA are no longer necessary. We request review and comment on this draft recovery plan from local, State, and Federal agencies, nongovernmental organizations, and the public.

Background

White fringeless orchid is a perennial herb of the Orchidaceae family (orchid family). The species is restricted to 48 populations in 6 southeastern states: Alabama, Georgia, Kentucky, Mississippi, South Carolina, and Tennessee. White fringeless orchid habitat has historically been described as partially shaded areas with sandy and acidic soils in wet areas like seeps, bogs, or swamps; however, the species also occurs in areas that differ in light and moisture availability.

The ESA states that a species may be listed as endangered or threatened based on one or more of the five factors outlined in section 4(a)(1). The white fringeless orchid is threatened primarily by destruction and modification of habitat (Listing Factor A) resulting in excessive shading, soil disturbance, altered hydrology, and proliferation of invasive plant species; collecting for recreational or commercial purposes (Listing Factor B); herbivory (Listing Factor C); and small population sizes and dependence on specific pollinators and fungi to complete its life cycle (Listing Factor E). Existing regulatory mechanisms have not reduced or removed the threats posed to the species from these factors (Listing Factor D). As a result of these threats, white fringeless orchid was listed as threatened under the ESA on September 13, 2016 (81 FR 62826).

Recovery Plan

Section 4(f)(1) of the ESA requires the development of recovery plans for listed species, unless such a plan would not promote the conservation of a particular species. The purpose of a recovery plan is to provide an effective and feasible roadmap for a species' recovery, with the goal of improving its status and managing its threats to the point where the protections of the ESA are no longer needed. The ESA requires that, to the maximum extent practicable, recovery plans incorporate the following:

• Objective, measurable criteria which, when met, would result in a determination that the species is no longer threatened or endangered;

• Site-specific management actions necessary to achieve the plan's goal for conservation and survival of the species; and

• Estimates of the time required and costs to implement recovery plans.

Recovery plans provide important guidance to the Service, States, other partners, and the general public on methods for minimizing threats to listed species and objectives against which to measure the progress towards recovery. A recovery plan identifies, organizes, and prioritizes recovery actions and is an important guide that ensures sound scientific decision-making throughout the recovery plan, which can take decades.

Section 4(f)(4) of the ESA requires us to provide public notice and an opportunity for public review and comment during recovery plan development. We will consider all information presented during a public comment period prior to approval of each new or revised recovery plan. We and other Federal agencies will take these comments into consideration in the course of implementing approved recovery plans.

The draft recovery plan for the white fringeless orchid describes actions necessary for the recovery of the species, establishes criteria for its delisting, and estimates the time and cost for implementing specific measures needed to recover the species. The ultimate goal of this draft recovery plan is to ensure the long-term viability of the white fringeless orchid in the wild to the point that it can be removed from the Federal List of Endangered and Threatened Plants in title 50 of the Code of Federal Regulations (50 CFR 17.12).

Recovery Criteria

The draft recovery plan proposes that the white fringeless orchid will be considered for delisting when:

1. Monitoring over a 10-year period demonstrates stable or increasing population growth rates for at least 26 protected populations with resilience levels of moderate to very high (as described in the Species Status Assessment). To ensure adequate representation and redundancy, these populations must be distributed among Environmental Protection Agency Level III Ecoregions as shown in the following table (addresses Factors A and E):

Level III ecoregion | Resilience level: Moderate | Resilience level: High or very high | Total
Blue Ridge | 2 | 1 | 3
Piedmont | 2 | 2 | 4
Ridge and Valley |  | 1 | 1
Southeastern Plains | 1 | 1 | 2
Southwestern Appalachians * | 10 | 6 | 16
* At least two of the resilient populations in the Southwestern Appalachians should be located in Georgia or Alabama to ensure representation in the southern portion of the ecoregion.

2. Written management agreements have been reached with partners/landowners that allow for sustained monitoring and management of white fringeless orchid populations that demonstrate moderate to very high resilience (addresses Factor A).

3. The species could be considered for delisting if 40 populations with resilience levels of moderate to very high (as described in the SSA), protected or unprotected, are distributed among the EPA Level III Ecoregions where the species occurs. At least half of these populations must have resilience levels of high or very high (addresses Factor A and E).

Request for Public Comments

We request written comments on the draft recovery plan. We will consider all comments we receive by the date specified in DATES prior to final approval of the plan.

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Leopoldo Miranda-Castro,
Regional Director.

[FR Doc. 2021-12455 Filed 6-14-21; 8:45 am]

BILLING CODE 4333-15-P